FEDERAL MARITIME COMMISSION

[Docket No. 15-10]

Revocation of License No. 017843, Washington Movers, Inc.; Order To Show Cause

AGENCY: Federal Maritime Commission.

DATES: The Order to Show Cause was served October 8, 2015.

ACTION: Notice of Order to show cause.

Authority: 46 U.S.C. 41312 & 40903.

SUPPLEMENTARY INFORMATION: On October 8, the Commission issued an Order to Washington Movers, Inc. to show cause why its ocean transportation intermediary license, FMC No. 017843, should not be revoked as a result of the felony convictions of its owner, President and Qualifying Individual, the failure to report material changes in fact, and the failure to obtain prior approval for a change in corporate name, rendering such licensee no longer qualified to provide ocean transportation intermediary services.

The Order may be viewed in its entirety at http://www.fmc.gov/15-10.

Karen V. Gregory,
Secretary.

[FR Doc. 2015-26171 Filed 10-14-15; 8:45 am]

BILLING CODE 6731-AA-P